DEPARTMENT OF TRANSPORTATION

National Highway Traffic Safety Administration

[Docket No. NHTSA-2022-0080]

Agency Information Collection Activities; Notice and Request for Comment; Child Passenger Safety Perceptions and Practices in Ridesharing and Autonomous Vehicles

AGENCY: National Highway Traffic Safety Administration (NHTSA), Department of Transportation (DOT).

ACTION: Notice and request for comments on a request for approval of a new information collection.

SUMMARY: The National Highway Traffic Safety Administration (NHTSA) invites public comments about our intention to request approval from the Office of Management and Budget (OMB) for a new information collection. Before a Federal agency can collect certain information from the public, it must receive approval from OMB. Under procedures established by the Paperwork Reduction Act of 1995, before seeking OMB approval, Federal agencies must solicit public comment on proposed collections of information, including extensions and reinstatement of previously approved collections. This document describes a collection of information for which NHTSA intends to seek OMB approval on Child Passenger Safety Perceptions and Practices in Ridesharing and Autonomous Vehicles.

DATES: Comments must be submitted on or before December 16, 2022.

ADDRESSES: You may submit comments identified by the Docket No. NHTSA-2022-0080 through any of the following methods:

• Electronic Submissions: Go to the Federal e-Rulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Margaret Hendricks, Ph.D., Office of Behavioral Safety Research (NPD-320), (202) 366-2305, National Highway Traffic Safety Administration, W46-466, U.S. Department of Transportation, 1200 New Jersey Avenue SE, Washington, DC 20590.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g., permitting electronic submission of responses. In compliance with these requirements, NHTSA asks for public comments on the following proposed collection of information for which the agency is seeking approval from OMB.

Title: Child Passenger Safety Perceptions and Practices in Ridesharing and Autonomous Vehicles.

OMB Control Number: New.

Form Numbers: 1687, 1688, 1689, 1690.

Type of Request: Approval of a new information collection.

Type of Review Requested: Regular.

Requested Expiration Date of Approval: 3 years from date of approval.

Summary of the Collection of Information: The National Highway Traffic Safety Administration (NHTSA) of the U.S. Department of Transportation is seeking approval for a one-time voluntary information collection from 24 caregivers of children 8 years old or younger and 12 licensed drivers of rideshare vehicles. The purpose of the collection is to describe child passenger safety (CPS) attitudes and behaviors from caregivers and rideshare drivers. A NHTSA contractor expects to provide screening questionnaires to 200 potential participants to determine their eligibility for the focus group study and to collect contact information for scheduling with a potential burden of 15 minutes per respondent or 50 hours. From the 200 potential participants, the contractor will contact and enroll up to 36 participants in the study. Six 90-minute focus groups will be conducted, each with six participants. Including the five minutes for participants to complete informed consent, the burden per focus group participant is 95 minutes or 57 hours. The total expected burden for screening, scheduling, and participating in the focus groups is 107 hours. A trained moderator will conduct separate virtual focus groups for caregivers/parents of at least one child 8 years old or younger who frequently use rideshare vehicles to transport children (two groups) and those who infrequently transport children in rideshare vehicles (two groups) as well as for rideshare drivers who frequently have child passengers 8 years old or younger (one group) and those who infrequently have child passengers (one group). The contractor will collect participants' attitudes and self-reported behaviors from the focus groups. NHTSA's contractor received Institutional Review Board (IRB) approval to conduct the focus groups. NHTSA will use the information to produce a technical report containing descriptive and qualitative assessments of caregivers/parents' and rideshare drivers' attitudes and behaviors related to CPS in rideshare vehicles. NHTSA will make the technical report available to a variety of audiences interested in improving highway safety through the agency website and the National Transportation Library. This collection will inform the development of behavioral safety countermeasures, particularly in the areas of communications and training related to CPS in rideshare vehicles and potentially future vehicles with Automated Driving Systems.

Description of the Need for the Information and Proposed Use of the Information: NHTSA has estimated that using a car seat reduces the risk of fatal injury for infants (under 1 year old) by 71 percent for passenger cars and by 58 percent for light trucks such as pickups, SUVs, and minivans. For toddlers (1 to 4 years old), the corresponding reductions are 54 percent and 59 percent. ¹ However, children are not always restrained appropriately. In 2020 there were 181 passenger vehicle occupant fatalities among children under 4 years old, and 31 percent were unrestrained (based on known restraint use). In the 4-to-7 age group, there were 207 fatalities; 43 percent were unrestrained (based on known restraint use).²

¹ Kahane, C. J. (2015, January). Lives saved by vehicle safety technologies and associated Federal Motor Vehicle Safety Standards, 1960 to 2012—Passenger cars and LTVs—With reviews of 26 FMVSS and the effectiveness of their associated safety technologies in reducing fatalities, injuries, and crashes (Report No. DOT HS 812 069). National Highway Traffic Safety Administration. https://crashstats.nhtsa.dot.gov/Api/Public/ViewPublication/812069.

² National Center for Statistics and Analysis. (2022, July). Occupant protection in passenger vehicles: 2020 data (Traffic Safety Facts. Report No. DOT HS 813 326). National Highway Traffic Safety Administration. https://crashstats.nhtsa.dot.gov/Api/Public/ViewPublication/813326.

The use of ridesharing services has increased dramatically over the past few years. In 2018, 36 percent of U.S. adults used ridesharing services, such as Uber and Lyft. This percentage is more than twice the share of the population who used ridesharing apps in 2015.³ As the use of ridesharing vehicles increases, concerns regarding how children are being transported in these vehicles are emerging.

³ Pew Research Center (2019, January 4). More Americans are using ride-hailing apps. https://www.pewresearch.org/fact-tank/2019/01/04/more-americans-are-using-ride-hailing-apps/.

Limited research has been conducted on CRS use in ridesharing vehicles. A study conducted by Prince, et al. showed lower rates of CRS use and higher rates of injuries in crashes involving taxis in New York City.⁴ In an online national survey of parents with children under eight, 59 percent reported that they transported their children differently when traveling in rideshare vehicles compared with private vehicles.⁵ Of those, 37 percent reported holding the child on their lap and 25 percent allowed the child to ride without a CRS. Several online and in-person surveys with parents and caregivers point to specific circumstances in which non-use of CRS is perceived as more acceptable, including riding in a rideshare or taxi; traveling while on vacation, carpooling, when traveling short distances; and finding there is no CRS available.6 7 8

⁴ Prince, P., Hines, L. M., Bauer, M. J., Liu, C., Luo, J., Garnett, M., & Pressley, J. C. (2019). Pediatric Restraint Use and Injury in New York City Taxis Compared with Other Passenger Vehicles. Transportation Research Record, 2673(7), 541-549. https://doi.org/10.1177/0361198119843091.

⁵ Owens, J. M., Womack, K. T., & Barowski, L. (2019, September). Factors Surrounding Child Seat Usage in Rideshare Services (Technical Report No. 01-005). Safety through Disruption (Safe-D) University Transportation Center. https://rosap.ntl.bts.gov/view/dot/63050.

⁶ Levi, S., Lee, H., Ren, W., Polson, A., & McCloskey, S. (2020, December). Awareness and availability of child passenger safety information resources (Report No. DOT HS 813 035). National Highway Traffic Safety Administration. https://rosap.ntl.bts.gov/view/dot/54283.

⁷ McDonald, C., Kennedy, E., Fleisher, L., & Zonfrillo, M. (2018). Situational Use of Child Restraint Systems and Carpooling Behaviors in Parents and Caregivers.International Journal of Environmental Research and Public Health, 15(8),1788. https://doi.org/10.3390/ijerph15081788.

⁸ Niu, L., Gao, Y. M., Tian, Y., & Pan, S. M. (2019). Safety awareness and use of child safety seats among parents after the legislation in Shanghai. Chinese journal of traumatology = Zhonghua chuang shang za zhi, 22(2), 85-87. https://doi.org/10.1016/j.cjtee.2018.08.005.

There also is a lack of research on best practice approaches for promoting child safety in rideshare vehicles, and regulatory inconsistencies (e.g., types of vehicles covered under restraint laws, severity of fines for violations of the law, age of child covered by child restraint laws, etc.) only contribute to the confusion on the part of caregivers and rideshare drivers. A better understanding of caregiver and rideshare driver behaviors and attitudes related to restraint use in rideshare services is needed to inform the development of public policy, regulations, enforcement measures, and educational campaigns.

Affected Public: Parents of children 8 years old or younger and adult licensed drivers of ridesharing vehicles.

Estimated Number of Respondents: 200 potential participants with 36 participating in focus groups.

Frequency: This study is a one-time information collection, and there will be no recurrence.

Estimated Total Annual Burden Hours: The total estimated burden with this collection is 107 hours. NHTSA estimates that up to 200 potential respondents will need to be screened for eligibility by completing a 10-minute screening questionnaire before finding 36 people to participate in the focus groups. The contractor will contact the eligible participants to determine whether they are still interested and if so, to schedule a focus group for an additional potential burden of five minutes. As such, screening and scheduling may take up to 15 minutes per potential participant. The goal is to schedule 36 participants for six focus groups (four caregiver groups and two driver groups).

Each focus group is estimated to last 90 minutes. Including informed consent, NHTSA estimates the burden as 95 minutes per participant. During the focus group, participants will discuss their experiences in traveling with children in rideshare vehicles, behavior with respect to using seat belts or CRSs when travelling in personal vehicles and rideshare vehicles, opinions regarding CPS in rideshare vehicles, etc. Assuming a 10-minute completion time for the recruitment screener questionnaire, 5 minutes for contacting and scheduling potential participants for the focus group sessions, 5 minutes for informed consent for participants, and 90 minutes for participating in the focus groups the total hour burden 107 hours. The calculation of the total estimated burden is shown in Table 1 below.

Table 1—Estimated Burden Hours by Form
Form No. | Form name and description | Respondents | Time per respondent (minutes) | Total time (hours)
1687 | Screener and Follow-Scheduling | 200 | 15 | 50
1688 | Informed Consent (Caregivers) | 24 | 5 | 2
1689 | Informed Consent (Drivers) | 12 | 5 | 1
1690 | Focus Group Participation | 36 | 90 | 54
Total |  |  |  | 107

Estimated Total Annual Burden Cost: NHTSA estimates that there are no costs to respondents beyond the time spent participating in the study.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29A.

Issued in Washington, DC.
Nanda Narayanan Srinivasan,
Associate Administrator, Research and Program Development.

[FR Doc. 2022-22423 Filed 10-14-22; 8:45 am]

BILLING CODE 4910-59-P